DEPARTMENT OF ENERGY

Federal Energy Regulatory Commission

[Project No. 14390-000]

Milford Hydro, LLC; Notice of Preliminary Permit Application Accepted for Filing and Soliciting Comments, Motions To Intervene, and Competing Applications

On April 19, 2012, Milford Hydro, LLC filed an application for a preliminary permit, pursuant to section 4(f) of the Federal Power Act, proposing to study the feasibility of the Milford Dam Hydroelectric Project, which would be located on the Republican River, in Geary County, Kansas. The sole purpose of a preliminary permit, if issued, is to grant the permit holder priority to file a license application during the permit term. A preliminary permit does not authorize the permit holder to perform any land disturbing activities or otherwise enter upon lands or waters owned by others without the owners' express permission.

The proposed project would consist of: (1) A powerhouse; (2) installation of two 1.85-megawatt propeller type turbines; (3) a proposed 4,440-foot-long, 12.7-kilovolt transmission line; (4) a 30-foot-long bifurcation structure equipped with three slide gates; (5) a 160-foot-long penstock; and (6) appurtenant facilities. The proposed Milford Dam Hydroelectric Project would have an estimated average annual generation of 20.917 gigawatt-hours.

Applicant Contact: Mark Boumansour, Milford Hydro, LLC, 1035 Pearl Street, 4th Floor, Boulder, CO 80302; phone: (720) 295-3317.

FERC Contact: Bryan Roden-Reynolds at (202) 502-6618, or via email at bryan.roden-reynolds@ferc.gov.

Deadline for filing comments, motions to intervene, competing applications (without notices of intent), or notices of intent to file competing applications: 60 days from the issuance of this notice. Competing applications and notices of intent must meet the requirements of CFR 4.36. Comments, motions to intervene, notices of intent, and competing applications may be filed electronically via the Internet. See 18 CFR 385.2001(a)(1)(iii) and the instructions on the Commission's Web site (http://www.ferc.gov/docs-filing/ferconline.asp). Commenter can submit brief comment up to 6,000 characters, without prior registration, using the eComment system at http://www.ferc.gov/docs-filing/ecomment.asp. You must include your name and contact information at the end of your comments. For assistance, please contact FERC Online Support at FERCOnlineSupport@ferc.gov; call toll-free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14218) in the docket number field to access the document. For assistance, contact FERC Online Support.

Dated: May 4, 2012.
Kimberly D. Bose,
Secretary.

[FR Doc. 2012-11355 Filed 5-10-12; 8:45 am]

BILLING CODE 6717-01-P